DEPARTMENT OF THE TREASURY

Office of Foreign Assets Control

Additional Designation of Entities Pursuant to Executive Order 12978

AGENCY: Office of Foreign Assets Control, Treasury.

ACTION: Notice.

SUMMARY: The Treasury Department's Office of Foreign Assets Control (“OFAC”) is publishing the names of seventeen newly-designated persons whose property and interests in property are blocked pursuant to Executive Order 12978 of October 21, 1995, “Blocking Assets and Prohibiting Transactions with Significant Narcotics Traffickers.” In addition, OFAC is publishing changes to the identifying information associated with nine persons previously designated pursuant to Executive Order 12978.

DATES: The designation by the Secretary of the Treasury of the seventeen persons identified in this notice pursuant to Executive Order 12978 is effective on October 31, 2006. In addition, the changes to the listings of persons previously designated pursuant to Executive Order 12978 are also effective on October 31, 2006.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

On October 31, 2006, the Secretary of the Treasury, in consultation with the Attorney General and Secretary of State, as well as the Secretary of Homeland Security, designated seventeen persons whose property and interests in property are blocked pursuant to the Order.

The list of additional designees is as follows:

1. AGROPECUARIA LINDARAJA S.A., Calle 4N No. 1N-10, Ofc. 901, Cali, Colombia;NIT # 890327360-0 (Colombia); (ENTITY) [SDNT]

2. APOYOS DIAGNOSTICOS S.A. (a.k.a. APOYOS DIAGNOSTICOS DE OCCIDENTE S.A.; f.k.a. UNIDAD DE DIAGNOSTICO MEDICO ESPECIALIZADO LTDA.; f.k.a. “Unides Ltda.”); Calle 26 No. 34-60, Tulua, Valle, Colombia;NIT # 800118755-2 (Colombia); (ENTITY) [SDNT]

3. CAMACHO VALLEJO ASESORES E.U. (a.k.a. CAMACHO VALLEJO CONTADORES); Calle 23BN No. 5N-37, Ofc. 202, Cali, Colombia;NIT # 805031109-7 (Colombia); (ENTITY) [SDNT]

4. CANADUZ S.A., Calle 23BN No. 5N-37, Ofc. 202, Cali, Colombia; (ENTITY) [SDNT]

5. CLINICA SAN FRANCISCO S.A. (f.k.a. CLINICA DE OCCIDENTE TULUA S.A.; f.k.a. CLINICA NUESTRA SENORA DE FATIMA S.A. ); Calle 26 No. 34-60, Tulua, Valle, Colombia;NIT # 800191916-1 (Colombia); (ENTITY) [SDNT]

6. CORPORACION CLUB DEPORTIVO TULUA (a.k.a. CORTULUA); Carrera 26 No. 32-70 B. Salesiano, Tulua, Valle, Colombia;NIT # 800097185-2 (Colombia); (ENTITY) [SDNT]

7. CORPORACION HOTELERA DEL CARIBE LIMITADA (a.k.a. APARTAHOTEL TRES CASITAS; a.k.a. “Tres Casitas”); Avenida Colombia No. 1-60, San Andres, Providencia, Colombia;NIT # 800104679-1 (Colombia); (ENTITY) [SDNT]

8. INVERSIONES BRASILAR S.A. (f.k.a. INVERSIONES RIVERA CAICEDO Y CIA S.C.S.; f.k.a. “Inrica”); Carrera 11 No. 73-44 , Ofc. 803, Bogota, Colombia;NIT # 891305286-2 (Colombia); (ENTITY) [SDNT]

9. KUTRY MANAGEMENT INC., Torre Universal Building, 3rd Floor, Federico Boyd Avenue and 51st Street, Panama City, Panama; (ENTITY) [SDNT]

10. TARRITOS S.A., Calle 23 BN No. 5N-37, Ofc. 202, Cali, Colombia;NIT # 805028114-3 (Colombia); (ENTITY) [SDNT]

11. BUENO GUERRERO, Alfonso, c/o APOYOS DIAGNOSTICOS S.A., Tulua, Valle, Colombia; c/o CLINICA SAN FRANCISCO S.A., Tulua, Valle, Colombia; Carrera 52 No. 33-84, Tulua, Valle, Colombia; Carrera 45 No. 4A-10, Cali, Colombia; DOB 17 Sep 1941; POB Tulua, Valle; Citizen Colombia; Nationality Colombia;Cedula No. 17056503 (Colombia); (INDIVIDUAL) [SDNT]

12. DUQUE JARAMILLO, German, c/o APOYOS DIAGNOSTICOS S.A., Tulua, Valle, Colombia; DOB 20 Apr 1951; POB Tulua, Valle; Citizen Colombia; Nationality Colombia;Cedula No. 14972076 (Colombia); (INDIVIDUAL) [SDNT]

13. MARTAN RODRIGUEZ, Oscar Ignacio, c/o CORPORACION CLUB DEPORTIVO TULUA, Tulua, Valle, Colombia; c/o AGROPECUARIA LINDARAJA S.A., Cali, Colombia; c/o INVERSIONES BRASILAR S.A., Bogota, Colombia; Calle 27 No. 38A-26, Tulua, Valle, Colombia; Carrera 33A No. 19-67, Tulua, Valle, Colombia; DOB 08 Feb 1958; POB Guapi, Cauca, Colombia; Citizen Colombia; Nationality Colombia;Cedula No. 19365692 (Colombia);Passport AJ534873 (Colombia) issued: 23 Jun 2005 exp: 23 Jun 2015;Passport AF775306 (Colombia);Passport AD445570 (Colombia) exp: 12 Jun 1992; (INDIVIDUAL) [SDNT]

14. OSORIO VALENCIA, James Augusto, c/o INVERSIONES BRASILAR S.A., Bogota, Colombia; c/o AGROPECUARIA LINDARAJA S.A., Cali, Colombia; Carrera 26 No. 8-60, Cali, Colombia; Calle 4N No. 1-10, Apt. 901, Cali, Valle, Colombia; DOB 16 Nov 1959; POB Miranda, Cauca, Colombia; Citizen Colombia; Nationality Colombia;Cedula No. 14880646 (Colombia);Passport AG940978 (Colombia);Passport AE758158 (Colombia); (INDIVIDUAL) [SDNT]

15. QUINTANA FUERTES, Andres Fernando, c/o INVERSIONES BRASILAR S.A., Bogota, Colombia; c/o AGROPECUARIA LINDARAJA S.A., Cali, Colombia; c/o TARRITOS S.A., Cali, Colombia; DOB 03 Jul 1966; POB Candelaria, Valle; Citizen Colombia; Nationality Colombia;Cedula No. 16989000 (Colombia);Passport AI375038 (Colombia);Passport 16989000 (Colombia) exp: 13 Dec 2000; (INDIVIDUAL) [SDNT]

16. SANDOVAL SALAZAR, Ricardo, c/o AGROPECUARIA LINDARAJA S.A., Cali, Colombia; c/o TARRITOS S.A., Cali, Colombia;Cedula No. 16683550 (Colombia); (INDIVIDUAL) [SDNT]

17. TRONCOSO POSSE, Jose Manuel, c/o INVERSIONES BRASILAR S.A., Bogota, Colombia; c/o AGROPECUARIA LINDARAJA S.A., Cali, Colombia; DOB 26 Nov 1953; POB Bogota, Colombia; Citizen Colombia; Nationality Colombia;Cedula No. 19233258 (Colombia);Passport AE297484 (Colombia); (INDIVIDUAL) [SDNT]

In addition, OFAC has made changes to the identifying information associated with the following nine persons previously designated pursuant to the Order:

BOHADA AVILA, Lubin, c/o AGRONILO S.A., Toro, Valle, Colombia; Calle 142A No. 106A-21 apt. 302, Bogota, Colombia; Carrera 100 No. 11-90 of. 403, Cali, Colombia; c/o ARMAGEDON S.A., La Union, Valle, Colombia; c/o GAD S.A., La Union, Valle, Colombia; c/o INDUSTRIAS DEL ESPIRITU SANTO S.A., Malambo, Atlantico, Colombia; c/o FRUTAS DE LA COSTA S.A., Malambo, Atlantico, Colombia; Cedula No. 19093178 (Colombia) (individual) [SDNT]

CAMACHO VALLEJO, Francisco Jose, c/o AGRONILO S.A., Toro, Valle, Colombia; Calle 23 BN No. 5-37 of. 202, Cali, Colombia; Carrera 37 No. 6-36, Cali, Colombia; c/o CRETA S.A., La Union, Valle, Colombia; c/o ILOVIN S.A., Bogota, Colombia; c/o JOSAFAT S.A., Tulua, Valle, Colombia; Cedula No. 14443381 (Colombia) (individual) [SDNT]

CAMACHO VALLEJO, Javier, Carrera 65 No. 14C-90, Casa 65, Cali, Colombia; c/o COMPANIA AGROPECUARIA DEL SUR LTDA., Bogota, Colombia; c/o INVERSIONES AGROINDUSTRIALES DEL OCCIDENTE LTDA., Bogota, Colombia; citizen Colombia; nationality Colombia; Cedula No. 16614154 (Colombia) (individual) [SDNT]

CEDENO HERRERA, Luis Mario, c/o COMPANIA AGROPECUARIA DEL SUR LTDA., Bogota, Colombia; c/o INVERSIONES AGROINDUSTRIALES DEL OCCIDENTE LTDA., Bogota, Colombia; citizen Colombia; nationality Colombia; Cedula No. 16637213 (Colombia) (individual) [SDNT]

COLLAZOS TELLO, Jairo Camilo, c/o DIMABE LTDA., Bogota, Colombia;DOB 09 Dec 1953; POB Cali, Colombia; Cedula No. 14998261 (Colombia); Passport AH690431 (Colombia) (individual) [SDNT]

GRAJALES LEMOS, Aida Salome, c/o CRETA S.A., La Union, Valle, Colombia; Calle 14 No. 13-03, La Union, Valle, Colombia; c/o AGRONILO S.A., Toro, Valle, Colombia; c/o ALMACAES S.A., Bogota,Colombia; c/o CASA GRAJALES S.A., La Union, Valle, Colombia; c/o GAD S.A., La Union, Valle, Colombia; c/o GRAJALES S.A., La Union,Valle, Colombia; c/o HOTEL LOS VINEDOS, La Union, Valle, Colombia; c/o MACEDONIA LTDA., La Union, Valle, Colombia; c/o RAMAL S.A.,Bogota, Colombia; c/o SALIM S.A., La Union, Valle, Colombia; c/o FRUTAS DE LA COSTA S.A., Malambo, Atlantico, Colombia; DOB 13 Dec 1970; POB La Union, Valle, Colombia; Cedula No. 39789871 (Colombia) (individual) [SDNT]

PARDO OJEDA, Mauricio, Carrera 18C No. 149-33, Apt. 309, Bogota, Colombia; c/o COMPANIA AGROPECUARIA DEL SUR LTDA., Bogota, Colombia; c/o INVERSIONES AGROINDUSTRIALES DEL OCCIDENTE LTDA., Bogota, Colombia; c/o COLOMBO ANDINA COMERCIAL COALSA LTDA., Bogota, Colombia; c/o AGRONILO S.A., Toro, Valle, Colombia; c/o ALMACAES S.A., Bogota, Colombia; c/o BLACKMORE INVESTMENTS A.V.V., Oranjestad, Aruba; c/o CRETA S.A., La Union, Valle, Colombia; c/o G.L.G. S.A., Bogota, Colombia; c/o ILOVIN S.A., Bogota, Colombia; c/o JOSAFAT S.A., Tulua, Valle, Colombia; c/o RAMAL S.A., Bogota, Colombia; DOB 27 Jul 1961; citizen Colombia; nationality Colombia; Cedula No. 19445690 (Colombia) (individual) [SDNT]

RENTERIA CAICEDO, Beatriz Eugenia, Diagonal 130 No. 7-20, Apt. 806, Bogota, Colombia; Avenida 11 No. 7N-166, Cali, Colombia; 85 Brainerd Road, Townhouse 9, Allston, MA 02134; 18801 Collins Avenue, Apt. 322-3, Sunny Isles Beach, FL 33160; Calle 90 No. 10-05, Bogota, Colombia; c/o INVERSIONES AGROINDUSTRIALES DEL OCCIDENTE LTDA., Bogota, Colombia; c/o COMPANIA AGROPECUARIA DEL SUR LTDA., Bogota, Colombia; DOB 30 Nov 1977; citizen Colombia; nationality Colombia; Cedula No. 52424737 (Colombia); Passport AG034865 (Colombia); alt. Passport AE309750 (Colombia); SSN 594-33-3351 (United States) (individual) [SDNT]

RENTERIA CAICEDO, Maria Cecilia, 18801 Collins Avenue, Apt. 322-3, Sunny Isles Beach, FL 33160; Diagonal 130 No. 7-20, Apt. 806, Bogota, Colombia; 85 Brainerd Road, Townhouse 9, Allston, MA 02134; Avenida 11 No. 7N-166, Cali, Colombia; Calle 90 No. 10-05, Bogota, Colombia; c/o COMPANIA AGROPECUARIA DEL SUR LTDA., Bogota, Colombia; c/o INVERSIONES AGROINDUSTRIALES DEL OCCIDENTE LTDA., Bogota, Colombia; DOB 27 May 1981; POB Cali, Colombia; citizen Colombia; nationality Colombia; Cedula No. 52410645 (Colombia); Passport AF624588 (Colombia); alt. Passport AD454168 (Colombia) (individual) [SDNT]

The listings now appear as follows:

BOHADA AVILA, Lubin, c/o AGRONILO S.A., Toro, Valle, Colombia; Calle 142A No. 106A-21 apt. 302, Bogotá, Colombia; Carrera 100 No. 11-90 of. 403, Cali, Colombia; c/o ARMAGEDON S.A., La Union, Valle, Colombia; c/o GAD S.A., La Union, Valle, Colombia; c/o INDUSTRIAS DEL ESPIRITU SANTO S.A., Malambo, Atlantico, Colombia; c/o TARRITOS S.A., Cali, Colombia; Cedula No. 19093178 (Colombia) (individual) [SDNT]

CAMACHO VALLEJO, Francisco Jose, c/o AGRONILO S.A., Toro, Valle, Colombia; Calle 23 BN No. 5-37 of. 202, Cali, Colombia; Carrera 37 No. 6-36, Cali, Colombia; c/o CRETA S.A., La Union, Valle, Colombia; c/o ILOVIN S.A., Bogotá, Colombia; c/o JOSAFAT S.A., Tulua, Valle, Colombia; c/o AGROPECUARIA LINDARAJA S.A., Cali, Colombia; c/o CAMACHO VALLEJO ASESORES E.U., Cali, Colombia; c/o CANADUZ S.A., Cali, Colombia; c/o INVERSIONES BRASILAR S.A., Bogota, Colombia; Cedula No. 14443381 (Colombia) (individual) [SDNT]

CAMACHO VALLEJO, Javier, Carrera 65 No. 14C-90, Casa 65, Cali, Colombia; c/o COMPANIA AGROPECUARIA DEL SUR LTDA., Bogotá, Colombia; c/o INVERSIONES AGROINDUSTRIALES DEL OCCIDENTE LTDA., Bogotá, Colombia; c/o CAMACHO VALLEJO ASESORES E.U., Cali, Colombia; citizen Colombia; nationality Colombia; Cedula No. 16614154 (Colombia) (individual) [SDNT]

CEDENO HERRERA, Luis Mario, c/o COMPANIA AGROPECUARIA DEL SUR LTDA., Bogotá, Colombia; c/o INVERSIONES AGROINDUSTRIALES DEL OCCIDENTE LTDA., Bogotá, Colombia; c/o AGROPECUARIA LINDARAJA S.A., Cali, Colombia; c/o INVERSIONES BRASILAR S.A., Bogotá, Colombia; citizen Colombia; nationality Colombia; Cedula No. 16637213 (Colombia) (individual) [SDNT]

COLLAZOS TELLO, Jairo Camilo, c/o DIMABE LTDA., Bogotá, Colombia; c/o AGROPECUARIA LINDARAJA, Cali, Colombia; c/o INVERSIONES BRASILAR S.A., Bogota, Colombia; DOB 09 Dec 1953; POB Cali, Colombia; Cedula No. 14998261 (Colombia); Passport AH690431 (Colombia) (individual) [SDNT]

GRAJALES LEMOS, Aida Salome, c/o CRETA S.A., La Union, Valle, Colombia; Calle 14 No. 13-03, La Union, Valle, Colombia; c/o AGRONILO S.A., Toro, Valle, Colombia; c/o ALMACAES S.A., Bogotá, Colombia; c/o CASA GRAJALES S.A., La Union, Valle, Colombia; c/o GAD S.A., La Union, Valle, Colombia; c/o GRAJALES S.A., La Union, Valle, Colombia; c/o HOTEL LOS VINEDOS, La Union, Valle, Colombia; c/o MACEDONIA LTDA., La Union, Valle, Colombia; c/o RAMAL S.A., Bogotá, Colombia; c/o SALIM S.A., La Union, Valle, Colombia; c/o TARRITOS S.A., Cali, Colombia; DOB 13 Dec 1970; POB La Union, Valle, Colombia; Cedula No. 39789871 (Colombia) (individual) [SDNT]

PARDO OJEDA, Mauricio, Carrera 18C No. 149-33, Apt. 309, Bogotá, Colombia; c/o COMPANIA AGROPECUARIA DEL SUR LTDA., Bogota, Colombia; c/o INVERSIONES AGROINDUSTRIALES DEL OCCIDENTE LTDA., Bogota, Colombia; c/o COLOMBO ANDINA COMERCIAL COALSA LTDA., Bogota, Colombia; c/o CANADUZ S.A., Cali, Colombia; CORPORACION HOTELERA DEL CARIBE LIMITADA, San Andres, Colombia; c/o KUTRY MANAGEMENT INC., Panama City, Panama; c/o TARRITOS S.A., Cali, Colombia; DOB 27 Jul 1961; citizen Colombia; nationality Colombia; Cedula No. 19445690 (Colombia) (individual) [SDNT]

RENTERIA CAICEDO, Beatriz Eugenia, Diagonal 130 No. 7-20, Apt. 806, Bogota, Colombia; Avenida 11 No. 7N-166, Cali, Colombia; 85 Brainerd Road, Townhouse 9, Allston, MA 02134; 18801 Collins Avenue, Apt. 322-3, Sunny Isles Beach, FL 33160; Calle 90 No. 10-05, Bogota, Colombia; c/o INVERSIONES AGROINDUSTRIALES DEL OCCIDENTE LTDA., Bogota, Colombia; c/o COMPANIA AGROPECUARIA DEL SUR LTDA., Bogota, Colombia; c/o CANADUZ S.A., Cali, Colombia; DOB 30 Nov 1977; citizen Colombia; nationality Colombia; Cedula No. 52424737 (Colombia); Passport AG034865 (Colombia); alt. Passport AE309750 (Colombia); SSN 594-33-3351 (United States) (individual) [SDNT]

RENTERIA CAICEDO, Maria Cecilia, 18801 Collins Avenue, Apt. 322-3, Sunny Isles Beach, FL 33160; Diagonal 130 No. 7-20, Apt. 806, Bogota, Colombia; 85 Brainerd Road, Townhouse 9, Allston, MA 02134; Avenida 11 No. 7N-166, Cali, Colombia; Calle 90 No. 10-05, Bogota, Colombia; c/o COMPANIA AGROPECUARIA DEL SUR LTDA., Bogota, Colombia; c/o INVERSIONES AGROINDUSTRIALES DEL OCCIDENTE LTDA., Bogota, Colombia; c/o CANADUZ S.A., Cali, Colombia; DOB 27 May 1981; POB Cali, Colombia; citizen Colombia; nationality Colombia; Cedula No. 52410645 (Colombia); Passport AF624588 (Colombia); alt. Passport AD454168 (Colombia) (individual) [SDNT]

Dated: October 31, 2006.
Barbara Hammerle,
Deputy Director, Office of Foreign Assets Control.

[FR Doc. E6-22342 Filed 12-28-06; 8:45 am]

BILLING CODE 4811-42-P